DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2024, through August 31, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. David Keifrider, Pottstown, Pennsylvania, Court of Federal Claims No: 24-1176V

2. Amber Pennington, Benton, Arkansas, Court of Federal Claims No: 24-1178V

3. Brittney Hendricks, Vancouver, Washington, Court of Federal Claims No: 24-1182V

4. Audrie Thorpe, Springfield, Missouri, Court of Federal Claims No: 24-1183V

5. Crystal Taisipic, Honolulu, Hawaii, Court of Federal Claims No: 24-1184V

6. Denise Pracht, Broomfield, Colorado, Court of Federal Claims No: 24-1185V

7. Joseph Azulay, New York, New York, Court of Federal Claims No: 24-1186V

8. Jennifer Salazar, San Diego, California, Court of Federal Claims No: 24-1188V

9. Quailer Sessums, Brenham, Texas, Court of Federal Claims No: 24-1190V

10. Nikki Deary, Cranston, Rhode Island, Court of Federal Claims No: 24-1191V

11. Jacqueline McGinty, Westlake, Ohio, Court of Federal Claims No: 24-1192V

12. Sarah E. Braun, Apex, North Carolina, Court of Federal Claims No: 24-1195V

13. Joshua Langner, Washington, District of Columbia, Court of Federal Claims No: 24-1196V

14. Erik Scheetz, Boulder, Colorado, Court of Federal Claims No: 24-1197V

15. Michael Bowman, St. Charles, Missouri, Court of Federal Claims No: 24-1200V

16. Albert Henson, Jr., Dallas, Texas, Court of Federal Claims No: 24-1201V

17. Cindy Arancio, Rochester, Michigan, Court of Federal Claims No: 24-1203V

18. Bonita Rogers, Saraland, Alabama, Court of Federal Claims No: 24-1205V

19. Erin D. Page, Ogden, Utah, Court of Federal Claims No: 24-1206V

20. Paul Striso, Boston, Massachusetts, Court of Federal Claims No: 24-1207V

21. Genaro Flores, Round Rock, Texas, Court of Federal Claims No: 24-1208V

22. Regina James, Ashburn, Virginia, Court of Federal Claims No: 24-1209V

23. Gregory Mundy, Irmo, South Carolina, Court of Federal Claims No: 24-1212V

24. Diana Alvarado, Columbus, Ohio, Court of Federal Claims No: 24-1214V

25. Windy Irwin, Frederick, Maryland, Court of Federal Claims No: 24-1215V

26. Jasmine Felder, Fishers, Indiana, Court of Federal Claims No: 24-1218V

27. Tykhon Benderskyi, Clemson, South Carolina, Court of Federal Claims No: 24-1220V

28. Priscilla Woolridge, Burkeville, Virginia, Court of Federal Claims No: 24-1225V

29. Alayna Helgason, Arden Hills, Minnesota, Court of Federal Claims No: 24-1226V

30. Nolan Meilinger, Detroit, Michigan, Court of Federal Claims No: 24-1231V

31. Katherine Mack on behalf of James R. Carhartt, Deceased, Seattle, Washington, Court of Federal Claims No: 24-1232V

32. Tykhon Benderskyi, Brookfield, Wisconsin, Court of Federal Claims No: 24-1233V

33. Juliette Jandel, Boston, Massachusetts, Court of Federal Claims No: 24-1239V

34. Madison Clark, Saranac Lake, New York, Court of Federal Claims No: 24-1244V

35. Mary Welling, Boston, Massachusetts, Court of Federal Claims No: 24-1247V

36. Kathryn Green, Lithonia, Georgia, Court of Federal Claims No: 24-1248V

37. Tiffany Adams, Richmond, Virginia, Court of Federal Claims No: 24-1249V

38. Michael Sochor, Plain City, Ohio, Court of Federal Claims No: 24-1250V

39. Melanie Stanbery on behalf of K.S., Tampa, Florida, Court of Federal Claims No: 24-1251V

40. Ryan D. Maxwell, Spokane, Washington, Court of Federal Claims No: 24-1252V

41. William Joyce, Cleveland, Ohio, Court of Federal Claims No: 24-1254V

42. Brittany Tant, Bossier City, Louisiana, Court of Federal Claims No: 24-1255V

43. Gregory Marks, Naples, Florida, Court of Federal Claims No: 24-1256V

44. Claudia Burgos on behalf of B. B., Gurnee, Illinois, Court of Federal Claims No: 24-1257V

45. Alexander Thomas, Boston, Massachusetts, Court of Federal Claims No: 24-1258V

46. Zachary Clary, Bracey, Virginia, Court of Federal Claims No: 24-1261V

47. Lori A. Brannan, Dakota Dunes, South Dakota, Court of Federal Claims No: 24-1262V

48. Nicole Rapson, Minneapolis, Minnesota, Court of Federal Claims No: 24-1263V

49. Kathie Wells on behalf of C.B., Forty Fort, Pennsylvania, Court of Federal Claims No: 24-1264V

50. Jeanmarie Walsh, Wilmington, Delaware, Court of Federal Claims No: 24-1268V

51. Jeffrey Arditti, Winston-Salem, North Carolina, Court of Federal Claims No: 24-1269V

52. Shari Lovelace, Middletown, Ohio, Court of Federal Claims No: 24-1270V

53. Jumar Busto, Los Angeles, California, Court of Federal Claims No: 24-1271V

54. Sonja Shoemaker, Richmond Hill, Georgia, Court of Federal Claims No: 24-1274V

55. Valerie Albright, Dallas, Texas, Court of Federal Claims No: 24-1277V

56. Gregory Cardona, Syosset, New York, Court of Federal Claims No: 24-1280V

57. Michelle Hagen, Oshkosh, Wisconsin, Court of Federal Claims No: 24-1283V

58. Kristen Sujung Han, New York, New York, Court of Federal Claims No: 24-1284V

59. Ava Watson, Los Angeles, California, Court of Federal Claims No: 24-1285V

60. Kelly Pepin, Wareham, Massachusetts, Court of Federal Claims No: 24-1286V

61. Soojin Kim, Burke, Virginia, Court of Federal Claims No: 24-1287V

62. Annie Bergenheier on behalf of D.B., Wichita Falls, Texas, Court of Federal Claims No: 24-1288V

63. Cathy Ann Kallman, Carson City, Nevada, Court of Federal Claims No: 24-1289V

64. Richard Imlay, Roseville, Michigan, Court of Federal Claims No: 24-1291V

65. Nicole Haymon, Culver City, California, Court of Federal Claims No: 24-1292V

66. Tannista Banerjee, Peachtree City, Georgia, Court of Federal Claims No: 24-1293V

67. Jeremy Cochran, Arden, North Carolina, Court of Federal Claims No: 24-1294V

68. Carmen Alfaro Balcaceres, Baltimore, Maryland, Court of Federal Claims No: 24-1295V

69. Laura Watts, Elizabethtown, Kentucky, Court of Federal Claims No: 24-1297V

70. Gabrielle Ronn, New York, New York, Court of Federal Claims No: 24-1298V

71. Veronica E. Johnson, Jamaica, New York, Court of Federal Claims No: 24-1299V

72. Sohui Lee, Chicago, Illinois, Court of Federal Claims No: 24-1302V

73. Lisa Gulcher, Washington, District of Columbia, Court of Federal Claims No: 24-1306V

74. Pammie Kurth, Green Bay, Wisconsin, Court of Federal Claims No: 24-1307V

75. Lorraine Dugan, Leesburg, Virginia, Court of Federal Claims No: 24-1309V

76. Linda M. Miller, Fuquay Varina, North Carolina, Court of Federal Claims No: 24-1311V

77. Bryan Bower, Olean, New York, Court of Federal Claims No: 24-1312V

78. Jace Bundy, Chicago, Illinois, Court of Federal Claims No: 24-1317V

79. Jacklyn Bennison, Asheville, North Carolina, Court of Federal Claims No: 24-1318V

80. Ann Heiden, Edgerton, Wisconsin, Court of Federal Claims No: 24-1319V

81. Michael McRae, Sussex, New Jersey, Court of Federal Claims No: 24-1321V

82. Joseph Franke, Albuquerque, New Mexico, Court of Federal Claims No: 24-1323V

83. Linda Radding, Vancouver, Washington, Court of Federal Claims No: 24-1324V

84. Lori Benjamin, Granger, Indiana, Court of Federal Claims No: 24-1325V

85. Claudia Hernandez, Diamond Bar, California, Court of Federal Claims No: 24-1326V

86. Rachael Tamara Vasquez, Stockton, California, Court of Federal Claims No: 24-1327V

87. Kipp Mickles, Apple Valley, California, Court of Federal Claims No: 24-1328V

88. Francis McKenna, Palm Bay, Florida, Court of Federal Claims No: 24-1329V

89. Josephine Trawick, Odenton, Maryland, Court of Federal Claims No: 24-1330V

90. Cristina Novoa, Miami, Florida, Court of Federal Claims No: 24-1331V

91. Jeffrey Allensworth, Lenexa, Kansas, Court of Federal Claims No: 24-1336V

92. Davee Davis, Washington, District of Columbia, Court of Federal Claims No: 24-1338V

93. Sonja D. White, Englewood, Ohio, Court of Federal Claims No: 24-1339V

94. Charlotte Mesimore, Chicago, Illinois, Court of Federal Claims No: 24-1340V

95. Gregory Reilly on behalf of L.R., Springfield, Pennsylvania, Court of Federal Claims No: 24-1341V

96. Benjamin Gleason, Tacoma, Washington, Court of Federal Claims No: 24-1343V

97. Sean Booker, East Providence, Rhode Island, Court of Federal Claims No: 24-1344V

98. Naomi Rawitz, Ann Arbor, Michigan, Court of Federal Claims No: 24-1346V

99. Bethany Barry, Boston, Massachusetts, Court of Federal Claims No: 24-1348V

100. Leon Gulley, Cincinnati, Ohio, Court of Federal Claims No: 24-1350V

101. Eliza Shumway, Lindon, Utah, Court of Federal Claims No: 24-1354V

102. Thomas Van Horn, Jr., Springfield, Pennsylvania, Court of Federal Claims No: 24-1356V

103. David Ormsbee, Apopka, Florida, Court of Federal Claims No: 24-1358V

[FR Doc. 2024-21434 Filed 9-18-24; 8:45 am]

BILLING CODE 4165-15-P